DEPARTMENT OF HEALTH AND HUMAN SERVICES

21 CFR Chapter I

[Docket No. 2004N-0115]

Prescription Drug Importation; Public Meeting and Establishment of Docket; Extension of Deadline for Speakers To Submit Requests for Presentations

AGENCY: Food and Drug Administration, HHS.

ACTION: Notice of public meeting and establishment of docket; extension of deadline to submit requests for presentations.

SUMMARY: The Food and Drug Administration (FDA) is extending to April 6, 2004, the deadline for speakers to submit requests for presentations and a summary of the presentation at the April 14, 2004, public meeting on prescription drug importation. This public meeting was announced in the Federal Register of March 18, 2004 (69 FR 12810).

DATES: Written requests for presentations and summaries of the presentations must be submitted by April 6, 2004.

ADDRESSES: Submit a request for presentations and a summary of your presentation to Karen Strambler, Office of Policy, Office of the Commissioner, Food and Drug Administration, 5600 Fishers Lane, Rockville, MD 20857, 301-827-3360, e-mail: Karen.Strambler@fda.gov.

SUPPLEMENTARY INFORMATION: In the Federal Register of March 18, 2004 (69 FR 12810), FDA published a notice of public meeting and establishment of docket announcing that it established a docket to receive information and comments on certain issues related to the importation of prescription drugs. FDA also announced a public meeting to enable interested individuals, organizations, and other stakeholders to present information to the Task Force for consideration in the study on importation mandated by the Medicare Prescription Drug, Improvement and Modernization Act of 2003. Speakers were asked to submit requests for presentations along with a short summary of their presentation by close of business on March 30, 2004. FDA is extending that deadline to April 6, 2004.

All other information and requirements of the March 18, 2004, Federal Register notice remain the same.

Dated: March 31, 2004.
Jeffrey Shuren,
Assistant Commissioner for Policy.

[FR Doc. 04-7714 Filed 4-1-04; 11:04 am]

BILLING CODE 4160-01-S